DEPARTMENT OF THE INTERIOR

Bureau of Land Management

[UT-080-1430-ES; UTU-81574]

Notice of Realty Action; Recreation and Public Purposes Act Classification, Utah

AGENCY: Bureau of Land Management, Interior.

ACTION: Notice.

SUMMARY: The Bureau of Land Management (BLM) has examined and found suitable for lease or conveyance under the provisions of the Recreation and Public Purposes Act, as amended (43 U.S.C. 869 et seq.), 1,228.92 acres of public land in Uintah County, Utah. Uintah County proposes to use the land for a recreation park which would include a Supercross, Motocross, Pee Wee Track, Open Ride Area, Flat Track, Mud Bogs, Indoor Supercross, Rock Crawling, Tough Truck, Ultralight Flight Park, Cabanas, Rest Rooms, Seating, and Parking.

DATES: Comments should be received by April 7, 2006.

ADDRESSES: Comments should be sent to Bureau of Land Management, Vernal Field Office, 170 South 500 East, Vernal, Utah 84078.

FOR FURTHER INFORMATION CONTACT: Naomi Hatch, BLM Realty Specialist at (435) 781-4454.

SUPPLEMENTARY INFORMATION: Uintah County purposes to use the following lands, containing 1,228.92 acres more or less, located within Uintah County, Utah to construct, operate, and maintain a recreation park within:

Salt Lake Meridian, Utah

T. 4 S., R. 22 E.,

Sec. 10, lots 1 to 4, inclusive, SE¼SW¼SE¼NE¼, NE¼SE¼SE¼NE¼, S½SE¼SE¼NE¼, S½NE¼NW¼SE¼, NE¼SW¼NW¼SE¼, S½SW¼NW¼SE¼, SE¼NW¼SE¼, and NE¼SE¼;

Sec. 15;

Sec. 22, NE¼, NE¼NW¼, NE¼NW¼NW¼, N½NW¼NW¼NW¼, E½SE¼NW¼NW¼, NE¼SE¼NW¼, N½NW¼SE¼NW¼, SE¼NW¼SE¼NW¼, N½SE¼SE¼NW¼, SE¼SE¼SE¼NW¼, NE¼SE¼, N½NW¼SE¼, NE¼SW¼NW¼SE¼, SE¼NW¼SE¼, NE¼NE¼SW¼SE¼, N½SE¼SE¼, NE¼SW¼SE¼SE¼, and SE¼SE¼SE¼.

The area described contains 1,228.92 acres in Uintah County.

The BLM does not need this land for Federal purposes and leasing or conveying title to the affected public land is consistent with current BLM land use planning and would be in the public interest.

The lease, when issued, will be subject to the provisions of the Recreation and Public Purposes Act and applicable regulations of the Secretary of the Interior, and the following terms:

1. All valid existing rights-of-way of record.

2. Provisions that the lease be operated in compliance with the approved Development Plan.

3. The lease shall contain terms and conditions which the authorized officer considers necessary for the proper development of the land, and for the protection of Federal property and the public interest.

The patent, when issued, will be subject to the provisions of the Recreation and Public Purposes Act and applicable regulations of the Secretary of the Interior, and will be subject to the following terms, conditions, and reservations:

1. A right-of-way thereon for ditches or canals constructed by the authority of the United States, Act of August 30, 1890 (43 U.S.C. 945).

2. All minerals shall be reserved to the United States, together with the right to prospect for, mine, and remove the minerals.

3. Those rights for a natural gas pipeline granted by right-of-way UTU-018084 to Questar Gas Company.

4. Those rights for a telephone line granted by right-of-way UTU-09017 to Qwest Corporation.

5. Those rights for a natural gas pipeline granted by right-of-way UTU-049527 to EOG Resources Inc.

6. Those rights for road purposes granted by right-of-way UTU-73611 to Uintah County.

7. Those rights for a natural gas pipeline granted by right-of-way UTU-23779 to Questar Gas Company.

8. Those rights for a transmission line granted by right-of-way UTU-0144547 to Western Area Power Administration.

9. Those rights for a water pipeline and storage tank by right-of-way UTU-52122 to Jensen Water District.

10. Those rights for an oil and gas leases UTU-80607 and UTU-80608 to William P. Harris.

11. Any other valid and existing rights of record not yet identified.

12. Provisions that if the patentee or its successor attempts to transfer title to or control over the land to another or the land is developed to a use other than that for which the land was conveyed, without the consent of the Secretary of the Interior or his delegate, or prohibits or restricts, directly or indirectly, or permits its agents, employees, contractors, or subcontractors, including without limitation, lessees sub-lessees and permittees, to prohibit or restrict, directly or indirectly, the use of any part of the patented lands or any of the facilities whereon by any person because of such person's race, creed, color, or national origin, title shall revert to the United States.

Upon publication of this notice in the Federal Register, the public lands described above is segregated from all other forms of appropriation under the public land laws, mining laws and leasing under the mineral leasing laws, except for leasing or conveyance under the Recreation and Public Purposes Act for a period of 18 months.

Classification Comments

Interested parties may submit comments regarding the suitability of the land for a recreation park. Comments on the classification are restricted to whether the land is physically suited for the proposed use, whether the use will maximize the future use or uses of the land, whether the use is consistent with local planning and zoning, or if the use is consistent with State and Federal programs.

Application Comments

Interested parties may submit comments regarding the specific use proposed in the application, whether the BLM followed proper administrative procedures in reaching the decision, or any other factor not directly related to the suitability of the land for a recreation park.

All submissions from organizations or businesses will be made available for public inspection in their entirety. Individuals may request confidentiality with respect to their name, address, and phone number. If you wish to have your name or street address withheld from public review, or from disclosure under the Freedom of Information Act, the first line of the comment should start with the words “CONFIDENTIALITY REQUEST” in uppercase letters in order for BLM to comply with your request. Such requests will be honored to the extent allowed by law. Comment contents will not be kept confidential. Any objections will be evaluated by the State Director, who may sustain, vacate, or modify this realty action. Any adverse comments will be reviewed by the State Director. In the absence of any adverse comments, the classification will become effective on April 24, 2006.

Authority: 43 CFR 2741.5.

Dated: January 6, 2006.
William Stringer,
Vernal Field Manager.

[FR Doc. E6-2372 Filed 2-17-06; 8:45 am]

BILLING CODE 4310-DQ-P